DEPARTMENT OF STATE

[Public Notice 6172]

Bureau of Educational and Cultural Affairs (ECA) Request for Grant Proposals: Arts Exchanges on International Issues Announcement Type: New Grants

Funding Opportunity Number: ECA/PE/C/CU-08-43.

Catalog of Federal Domestic Assistance Number: 00.000

Key Dates:

Application Deadline: May 22, 2008.

Executive Summary: The Cultural Programs Division of the Office of Citizen Exchanges, in the Bureau of Educational and Cultural Affairs announces an open competition for grants to implement programs that utilize the arts to engage civil society—particularly youth and diverse and underserved populations—and that foster linkages and build partnerships between U.S. and overseas non-profit arts and cultural organizations, and local communities. These international arts exchange projects will encourage democracy building by demonstrating opportunities for freedom of thought and expression and by underscoring the importance of empowerment in an open society. The Bureau anticipates that approximately 1,250,000 will be available to support this competition. ECA/PE/C/CU expects to fund approximately two to four projects under this competition in FY-2008. Public and non-profit arts and cultural organizations meeting the provisions described in Internal Revenue code section 26 U.S.C. 501(c)(3) may submit proposals that support the goals of the Arts Exchanges on International Issues Program. As applicable, programs should include two-way exchanges of participants from the U.S. and foreign countries.

Proposed projects should transform institutional and individual understanding of key international, arts and/or cultural issues, foster dialogue, develop professional expertise and develop leadership capacity. Through these people-to-people exchanges, the Bureau seeks to reach out to young people, counter negative perceptions, promote good governance, contribute to conflict prevention and management, and build respect for cultural expression and identity in the world. Projects should be structured to encourage American professionals and their international counterparts in eligible countries to develop a common dialogue for dealing with shared challenges and concerns. The Bureau is especially interested in engaging socially and economically diverse groups that may not have had extensive contact with counterpart institutions in the United States.

Applicants may only submit one proposal under this open competition. An applicant may not include in its project proposal countries not eligible under each specific theme as designated in the RFGP. Proposals that contain countries that are not listed under each theme in the RFGP will be considered technically ineligible, and will not receive further consideration in the review process.

For this competition, all eligible organizations must demonstrate a minimum of five years' experience successfully conducting international arts exchange programs that involved the exchange of participants.

The Bureau is interested in receiving proposals from organizations with a strong interest, thematic expertise, institutional commitment and a successful track-record in conducting international exchanges. We welcome proposals from organizations that have not previously received ECA funding. Organizations that have the expertise, interest and institutional commitment but lack the required experience of conducting exchanges may wish to consider developing proposals based on consortia-type relationships with more experienced, eligible organizations. Please note that for these proposals, the role of each organization must be clearly defined and any sub-granting agreements must be included in the proposal submission.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: This grant competition is based on the premise that people-to-people exchanges encourage and strengthen understanding of democratic values and nurture the cultural and social growth of societies. Under this premise, the Bureau seeks proposals for projects in which U.S. visual artists and arts educators work with their counterparts overseas to create mutually beneficial and self-sustaining partnerships between cultural organizations and/or professional communities. Proposals that show strong prospects for enhancing existing long-term collaborations or establishing new collaborative efforts among participating organizations. Proposals with a finished product will be deemed more competitive under the program planning criterion listed below.

The two project themes for which the Bureau will accept proposals under this competition are as follows: (1) Mixed Visual Artistic Mediums: Cultural Exchange Between American Indigenous and Minority Artists and Indigenous and Afro-Latino Artists from Latin and Central America; and (2) Mixed Visual Artistic Mediums: Cultural Exchange Between American Women Artists and Women Artists from Africa and/or the Middle East.

Under this grant program, U.S. non-profit organizations will conduct projects in cooperation with the Bureau of Educational and Cultural Affairs, Cultural Programs Division on the themes listed above, with their counterparts in the world regions described under each project theme. Interested applicants will need to read each of the following theme descriptions below in order to determine the eligible counties of exchange for each theme. No guarantee is made or implied that grants will be awarded in both themes and in all targeted countries.

In addition to describing extensive expertise in the specific thematic area, proposals should reflect a practical understanding of global issues, and demonstrate sensitivity to cultural, political, economic and social differences in the specific world regions in which the exchange project will occur. Special attention should be given to describing the applicant organization's experience with planning and implementing people-to-people international cultural exchange projects. Applicants should outline their project team's capacity for successfully implementing projects of this nature and provide a detailed sample program and time line to illustrate planning capacity and ability to achieve program objectives. Applicants must identify all U.S. and foreign partner organizations and/or venues with whom they are proposing to collaborate, and describe previous cooperative projects in the section on “Institutional Capacity.” For this competition, applicants must include in their proposal supporting materials or documentation that demonstrates a minimum of five years' experience in conducting international arts exchange programs. Proposals must include references with name and contact information for other assistance awards the applicant has received in the event the Bureau chooses to be in touch directly.

U.S. Embassy Involvement: Before submitting a proposal, applicants are strongly encouraged to consult with the Bureau's Cultural Programs Division in Washington, DC—for the themes/regions listed in this solicitation. It is important that the proposal narrative clearly state the applicant's commitment to consult closely with the Public Affairs Section of the U.S. Embassy in the relevant country(ies) to develop plans for project implementation and to select project participants. Proposals should also acknowledge U.S. Embassy involvement in the final selection of all participants. Applicants should state their willingness to invite representatives of the Embassy(ies) and/or consulate(s) to participate in program sessions or site visits.

For the 2008 Arts Exchanges on International Issues Program, U.S. non-profit organizations may submit grant proposals for either one of the two project themes and countries of exchange that are listed below. Please note that for additional information about this grant competition, a contact program officer is listed under each of the following two themes:

1. Mixed Visual Artistic Mediums

Two-way cultural exchange between American indigenous and minority artists and indigenous and Afro-Latino artists from countries in Latin and Central America.

Program Contact: E.J. Montgomery, tel: (202) 203-7520, e-mail: montgomeryEJ@state.gov with copy to: bensonMN@state.gov.

Project Goals:

ECA seeks programs that will bring together emerging foreign and U.S. indigenous and Afro-Latino professional artists to address common issues facing them and express their reactions to these issues through multiple, mixed artistic media. The program should focus on the challenges faced by minorities in the modern world and how minority artists can use art for self-expression and as a way to engage others in the community to address challenges facing minorities. The program should also help the artists develop a deeper understanding of themselves as artists and as opinion shapers and community leaders. Issues to be examined/explored include: identity, diversity, educational opportunities, role of indigenous and Afro-Latino minorities within a multi-ethnic society, minorities as artists, censorship, and artistic/professional development. The program should explore similarities and unique qualities of members of minority populations and focus on how art can be used to promote tolerance and respect for diversity.

Participants:

Participants (foreign and U.S.) should be emerging indigenous and Afro-Latino artists from the U.S. and selected countries in Latin and Central America whose artistic disciplines include photography, painting, mural art, textile & fiber art, or small sculpture. They should have demonstrated a commitment to their profession as well as to positively influencing their communities, particularly other minorities and youth. A diverse mix of participants from a variety of countries in Latin and Central America is desired.

Participant Selection:

Foreign participants will be nominated in two ways: By the Department of State through a call for nominations from U.S. Embassies and posts, and; by the grantee organization, which will utilize its own network of contacts overseas (including museums, minority organizations and artistic associations) and its own resources (such as visiting U.S. artists) to make a concurrent call for nominations. The American participants will be selected via a competitive process that will include an open call for applications in the U.S. All participant applications will be reviewed by a panel organized and convoked by the grantee organization and consisting of artists and art professionals, and an ECA representative as an observer. Procedures for the nomination and for selection of participants and panel members must be detailed in the proposal. ECA will review and approve nominees (foreign and U.S.) prior to and following panel consideration, in consultation with posts.

Eligible Countries:

ECA is particularly interested in projects in the following countries: Bolivia, Ecuador, Colombia, Venezuela, Guatemala, Peru and Nicaragua.

Successful programs will achieve the following:

—Provide participants with a deeper understanding of issues facing minorities in Latin and Central America and in the U.S. This may include the role and identity of minorities in their particular cultures and how this affects their ability to reach the desired level of professional and personal development. The program should also develop and explore tools that will permit participants to address these issues.

—Provide participants an understanding of how international cultural exchange and networking can positively influence their lives and those of others and provide them the tools to accomplish successful networking.

—Provide participants with an appreciation and a greater understanding and respect for diverse cultures—focusing specifically on U.S. society and culture. Provide them a greater understanding of the similarities, including shared values between the U.S. and the foreign country(ies).

—Enhance participant leadership capacity and their ability to initiate and support follow-on activities in their home countries intended to empower other minorities.

—Provide a platform for cross-cultural dialogue and develop enduring professional ties between U.S. and foreign artists.

Successful applicants must fully demonstrate a capacity to achieve the following:

(1) Work jointly with foreign and U.S. partners and/or contacts to design, develop, and execute a multi-lingual, multi-regional, international program of exchanges, professional development, artistic enrichment and cross-cultural dialogue that achieves the goals described above.

(2) Identify, screen, recruit and select approximately 10 to 16 indigenous and Afro-Latino artists from specified countries in Latin and Central America (at least 2 participants from each country) and between 5-8 artists from the U.S. fitting the above description.

(3) Provide a sound infrastructure for coordination and implementation of the entire program. This refers to both substantive and administrative components of the program, including but not limited to: fellowship and workshops content and organization, travel, housing, orientation, visa applications, and language interpretation. Successful applicants will also have U.S. and/or Latin and Central America partners able and willing to provide cost-sharing (including in-kind) in order to cover program costs.

(4) Design, build and implement intensive one- to two-week visual arts programs in the foreign countries and three- to four-week visual arts programs in the U.S. that will achieve program objectives.

(5) Develop enhancement activities and opportunities that reinforce program goals after the participants return to their home countries. Follow-on components could be public presentations by program participants.

Possible Program Model:

1. In the first phase of the program selected American visual artists will travel to Latin and Central America for a one- to two-week program to meet with counterparts and to conduct workshops with young emerging artists in the selected countries. The program should include visits to local universities and visual arts or other cultural partner institutions as well as events that engage broader audiences of minorities and youth from diverse and underserved populations. Through this interaction, the U.S. grantee will identify artists from the region as possible candidates for the U.S.-based program. Concurrently, overseas posts will also be making nominations. Final selection of foreign participants will then be made as described above.

2. In phase two of the program, the selected foreign artists will travel to the U.S. to participate in a three- to- four week collaborative visual arts program with their American counterparts. The program should provide an overview of the role of minorities in the selected participant countries and the U.S. and the visual art techniques and traditions used by them to express identity. It should provide an opportunity for analysis, exploration and dialogue. It should include workshops and master classes that explore the role of art in self-expression and identity, underscore the importance of education for minorities, and inform about the resources available to artists. Participants should also have the opportunity to visit places of cultural interest in the visual arts field where they can interact with other artists. Through visits to community centers and other social venues, they should also have been provided an opportunity to engage broader audiences from diverse and underserved populations.

3. In phase three of the program, grantee organizes a public exhibition of the collaborative work or individual pieces produced by the participants during their fellowship that reflect themes about minorities and identity explored through the fellowship.

4. In phase four, the foreign participants return to their countries. Follow-on components to the program could be a virtual exhibit on the website of the work done by the artists during their fellowship and the opportunity to continue to network with other artist participants and engage the local communities.

5. This model cycle would be repeated, with the expectation that the grantee will seek to involve first cycle participants in some elements of the second year's program.

2. Mixed Visual Artistic Mediums

Two-way cultural exchange between American Women artists and Women artists from countries in the Middle East and/or Africa.

Program Contact: E.J. Montgomery, tel: (202) 203-7520, e-mail: montgomeryEJ@state.gov with copy to bensonMN@state.gov.

Project Goals:

ECA seeks programs that will bring together emerging foreign and U.S. professional women artists to address common issues facing women as expressed through multiple, mixed artistic media. The program should focus on the challenges faced by women in the modern world and how female artists can use art for self-expression and as a way to engage others in the community to address challenges facing them. The program should also help the artists develop a deeper understanding of themselves as artists and as opinion shapers and community leaders. Issues to be examined/ explored include: identity, censorship, equal rights, educational opportunities, violence against women, the roles of women in society, women as artists, and artistic/professional development. The program should focus on how art can promote tolerance and respect for women.

Participants:

Participants should be emerging women artists from the U.S. and selected countries in the Middle East and/or Africa whose artistic disciplines include photography, painting, mural art, textile and fiber art, or small sculpture. They should have demonstrated a commitment to their profession as well as to positively influencing their communities, particularly other women and youth. A diverse mix of participants from a variety of countries in the Middle East and/or Africa regions is suggested.

Participant Selection:

Foreign participants will be nominated in two ways: By ECA through a call for nominations from U.S. Embassies and posts, and; by the grantee organization, which will utilize its own network of contacts overseas (including museums, minority organizations and artistic associations) and its own resources (such as visiting U.S. artists) to make a concurrent call for nominations. The American participants will be selected via a competitive process that includes an open call for applications in the U.S. All participant applications will be reviewed by a panel organized and convoked by the grantee organization and consisting of artists and art professionals, and an ECA representative as an observer. Procedures for the nomination and for selection of participants and panel members must be detailed in the proposal. ECA will review and approve nominees (foreign and U.S.) prior to and following panel consideration in consultation with posts.

Eligible Countries

ECA seeks projects in the Middle East and/or Africa.

Successful programs will achieve the following:

—Provide participants a deeper understanding of issues facing women in the Middle East and/or Africa and in the U.S. This may include the role and identity of women in their particular cultures and how this affects their ability to reach the desired level of professional and personal development. The program should also develop and explore tools that will permit participants to address these issues.

—Provide participants an understanding of how international cultural exchange and networking can positively influence their lives and those of others and provide them the tools to accomplish successful networking.

—Provide participants with an appreciation and a greater understanding and respect for diverse cultures—focusing specifically on U.S. society and culture. Provide them a greater understanding of the similarities, including shared values between the U.S. and the foreign country(ies).

—Enhance participant leadership capacity and their ability to initiate and support follow-on activities in their home countries intended to empower other women.

—Provide a platform for cross cultural dialogue and for developing enduring professional ties between U.S. and foreign artists.

Successful applicants must fully demonstrate a capacity to achieve the following:

(1) Work jointly with foreign and U.S. partners and contacts to design, develop, and execute a multi-lingual, multi-regional, international program of exchanges, professional development, artistic enrichment and cross-cultural dialogue that achieves the goals described above.

(2) Identify, screen, recruit and select approximately 10 to 16 women throughout countries in the Middle East and/or Africa (at least 2 participants from each country) and between 5-8 artists from the U.S. fitting the above description.

(3) Provide a sound infrastructure for coordination and implementation of the entire program. This refers to both substantive and administrative components of the program, including but not limited to: Fellowship and workshop content and organization, travel, housing, orientation, visa applications, and language interpretation. Successful applicants will also have partners in the U.S. and/or Middle East and Africa that are able and willing to provide cost-sharing (including in-kind) in order to cover program costs.

(4) Design, build and implement intensive one- to two-week visual arts programs in the foreign countries and three- to four-week visual arts programs in the U.S. that will achieve program objectives.

(5) Develop enhancement activities and opportunities that reinforce program goals after the participants return to their home countries. Follow-on components could be public presentations by program participants.

Possible Program Model:

1. In the first phase of the program selected American visual artists will travel to the Middle East and/or Africa for a one- to two-week program to meet with counterparts and to conduct workshops with young emerging artists in the selected countries. The program should include visits to local universities and visual arts partner institutions as well as events that engage broader audiences of women and youth from diverse and underserved populations. At this time the U.S. grantee and the Middle Eastern and African partners will identify women from the region to participate in the U.S. based program. Concurrently, overseas posts will also be making nominations. Final selection of foreign participants will then be made as described above.

2. In phase two of the program, the selected foreign artists will travel to the U.S. for a three- to four-week program to participate in collaborative visual arts projects with their American counterparts. The program should provide an overview of the role of women in the selected participant countries and the U.S. and the visual art techniques and traditions used by them to express identity. It should provide an opportunity for analysis, exploration and dialogue. It should include workshops and master classes that explore the role of art in self-expression and identity, underscore the importance of education for women and inform about the resources available to artists. Participants should also have the opportunity to visit places of cultural interest in the visual arts field where they can interact with other artists. Through visits to community centers and other social venues, they should also have been provided an opportunity to engage broader audiences from diverse and underserved populations.

3. In phase three of the program, the grantee organizes a public program to include an exhibition of the collaborative work or individual pieces produced by the participants during their fellowship that reflect themes about women and their identity explored through the fellowship.

4. In phase four the foreign participants return to their countries. Follow-on components to the program could be a virtual exhibit on the website of the work done by the women during their fellowship and the opportunity to continue to network with other artist participants and engage the local communities.

5. This model cycle would be repeated, with the expectation that the grantee will seek to involve first cycle participants in some elements of the second year's program.

II. Award Information

Type of Award: Grant Agreement.

Fiscal Year Funds: FY-2008.

Approximate Total Funding: $1,250,000.

Approximate Number of Awards: 2-4 awards.

Approximate Average Award: $450,000.

Floor of Award Range: $200,000.

Ceiling of Award Range: $600,000.

Anticipated Award Date: August 15, 2008.

Anticipated Project Completion Date: August 30, 2010.

Additional Information: Pending successful implementation of this program and the availability of funds in subsequent fiscal years, it is ECA's intent to renew this grant for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau strongly encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion. Organizations that provide no cost-sharing will be deemed not competitive under the Cost Effectiveness and Cost-Sharing Review criterion.

III.3. Other Eligibility Requirements:

(a.) Bureau grant guidelines require that organizations with less than four years experience in conducting international exchanges be limited to $60,000 in Bureau funding. Under this competition, ECA anticipates awarding grants in the range of $200,000-$600,000. Therefore, organizations with less than four years experience in conducting international exchanges are ineligible to apply under this competition. The Bureau encourages applicants to provide the maximum levels of cost sharing and funding in support of its programs.

(b.) Technical Eligibility: In addition to the requirements outlined in the Proposal Submission Instructions (PSI) technical format instructions document, all proposals must comply with the following or they will result in your proposal being declared technically ineligible and given no further consideration in the review process.

1. The Office does not support proposals limited to conferences or seminars (i.e., one- to fourteen-day programs with plenary sessions, main speakers, panels and passive audiences). It will support conferences only when they are a small part of a larger project in duration that is receiving Bureau funding from this competition.

2. No funding is available exclusively to send U.S. citizens to conferences or conference-type seminars overseas; nor is funding available for bringing foreign nationals to conferences or to routine professional association meetings in the United States.

3. The Office of Citizen Exchanges does not support academic research or faculty or student fellowships.

4. Proposals for projects involving countries/regions, themes and/or artistic disciplines not listed in the RFGP will be deemed technically ineligible. Please carefully read the eligible countries listed under each theme.

5. No funding is available to send individual artists, arts educators, filmmakers and/or amateur arts groups to perform or study overseas.

The Arts Exchanges on International Issues Program is solely intended to support the international exchange work of non-profit organizations. Our grant program is not open to amateur or community-based visual artists. Individuals are not eligible to apply for funding of their own work. While our program emphasizes outreach to youth, all exchange participants must be at least 21 years of age.

IV. Application and Submission Information

Note: Please read the complete announcement before sending inquiries or submitting proposals. Once the RFGP deadline has passed, Bureau staff may not discuss this competition with applicants until the proposal review process has been completed.

IV.1. Contact Information to Request an Application Package:

Please contact the LaFaye Proctor, Cultural Programs Division, ECA/PE/C/CU, Room 568, U.S. Department of State, SA-44, 301 4th Street, SW., Washington, DC 20547, phone number: (202) 203-7488; e-mail: ProctorLM@state.gov to request a Solicitation Package. Please refer to the Funding Opportunity Number ECA/PE/C/CU-08-43 located at the top of this announcement when making your request. Alternatively, an electronic application package may be obtained from grants.gov. Please see section IV.3f for further information.

The Solicitation Package contains the Proposal Submission Instruction (PSI) document, which consists of required application forms and standard guidelines for proposal preparation.

Please specify the program theme and program officer listed under each theme and refer to the Funding Opportunity Number ECA/PE/C/CU-08-43 located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document for additional formatting and technical requirements.

IV.3c. You must have nonprofit status with the IRS at the time of application.

Please note: Effective March 14, 2008, all applicants for ECA federal assistance awards must include with their application, a copy of page 5, Part V-A, “Current Officers, Directors, Trustees, and Key Employees” of their most recent Internal Revenue Service (IRS) Form 990, “Return of Organization Exempt From Income Tax.” If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Bureau of Educational and Cultural Affairs places critically important emphases on the security and proper administration of the Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: United States Department of State, Office of Exchange Coordination and Designation,ECA/EC/ECD-SA-44, Room 734, 301 4th Street, SW., Washington, DC 20547, Telephone: (202) 203-5029, Fax: (202) 453-8640.

Please refer to Solicitation Package for further information.

IV.3d.1. Adherence To All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places critically important emphases on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation,ECA/EC/ECD-SA-44, Room 734, 301 4th Street, SW., Washington, DC 20547, Telephone: (202) 203-5029, Fax: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Budget requests may not be less than $200,000 and may not exceed $625,000. There must be a summary budget as well as breakdowns reflecting both administrative and program budgets. Applicants may provide separate sub-budgets for each program component, phase, location, or activity to provide clarification.

IV.3e.2. Allowable costs for the program include the following:

1. Travel. International and domestic airfare; visas; transit costs; ground transportation costs. Please note that all air travel must be in compliance with the Fly America Act. There is no charge for J-1 visas for participants in Bureau sponsored programs.

2. Per Diem. For U.S.-based programming, organizations should use the published Federal per diem rates for individual U.S. cities. Domestic per diem rates may be accessed at: http://www.gsa.gov/Portal/gsa/ep/contentView.do?programId=9704&channelId=-15943&ooid=16365&contentId=17943&pageTypeId=8203&contentType=GSA_BASIC&programPage=%2Fep%2Fprogram%2FgsaBasic.jsp&P=MTT.

ECA requests applicants to budget realistic costs that reflect the local economy and do not exceed Federal per diem rates. Foreign per diem rates can be accessed at: http://aoprals.state.gov/content.asp?content_id=184&menu&_id=78.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working meal. Normally, no more than one working meal may be provided during the program. Per capita costs may not exceed $15-$25 for lunch and $20-$35 for dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources.

Please refer to the Solicitation Package for complete budget guidelines and formatting instructions.

IV.3f. Application Deadline and Methods of Submission:

Application Deadline Date: Thursday, May 22, 2008.

Reference Number: ECA/PE/C/CU-08-43.

Methods of Submission:

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 9 copies of the application should be sent to: U.S. Department of State, SA-44, Bureau of Educational and Cultural Affairs, Ref.: ECA/PE/C/CU-08-43, Program Management, ECA/EX/PM, Room 534, 301 4th Street, SW., Washington, DC 20547.

Applicants submitting hard-copy applications must also submit the “Executive Summary”, “Proposal Narrative” and “Budget” sections of the proposal in text (.txt) or Microsoft Word format on a PC-formatted disk. The Bureau will provide these files electronically to the appropriate Public Affairs Section(s) at the U.S. embassy(ies) for its (their) review.

IV.3f.2. Submitting Electronic Applications

Applicants have the option of submitting proposals electronically through Grants.gov (http://www.grants.gov). Complete solicitation packages are available at Grants.gov in the “Find” portion of the system. Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. eastern time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

Optional—IV.3f.3. You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grant assistance awards resides with the Bureau's Grants Officer.

Review Criteria

Technically eligible applications will be competitively reviewed according to the criteria stated below. These criteria are not rank ordered and all carry equal weight in the proposal evaluation:

1. Program Planning and Ability to Achieve Objectives: Detailed agenda and relevant work plan must explain how objectives will be achieved and must include a timetable for completion of major tasks. Program objectives should be clearly described and should reflect the applicant's expertise in the artistic discipline and geographic world region featured in your project. The proposal should include documentation of artistic merit and quality through sources such as published reviews and letters of recommendation from experts in the artistic discipline featured in your project. However, work samples are not requested and cannot be evaluated by the Bureau.

2. Multiplier Effect/Impact: Proposed programs should strengthen long-term mutual understanding, including maximum sharing of information and establishment of long-term institutional and individual linkages. Proposals must describe your plans for project sustainability, and for furthering the programs and partnerships beyond the conclusion of a possible ECA grant.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity: Proposed personnel and institutional resources should be adequate and appropriate to achieve the program or project's goals. Proposal should reflect the institution's expertise in the thematic area the proposal addresses, as well as knowledge of the conditions in the specific regions abroad. Proposals should include (1) the institution's mission and date of establishment; (2) an outline of prior awards—U.S. government and/or private support received for tours abroad; (3) resumes of experienced staff members who will be part of the team implementing the program, and; (4) all other documentation requested herein.

5. Institution's Record/Ability: Proposals should demonstrate an institutional record of at least five years of international planning and implementation in the thematic area the proposal addresses. This includes demonstrating responsible fiscal management and full compliance with all reporting requirements for past Bureau grants as determined by Bureau Grants Staff. The Bureau will consider the past performance of prior recipients and the demonstrated potential of new applicants. Proposals must include references with name and contact information for other assistance awards the applicant has received in the event the Bureau chooses to be in touch directly.

6. Project Evaluation: Proposals should include a plan to evaluate the activity's success, both as the activities unfold and at the end of the program. A draft survey questionnaire or other technique plus description of a methodology used to link outcomes to original project objectives is requested.

7. Cost-effectiveness and Cost-sharing: The overhead and administrative components of the proposal, including salaries and honoraria, should be kept as low as possible. All other items should be necessary and appropriate. Proposals should maximize cost-sharing through other private sector support as well as institutional direct funding contributions.

VI. Award Administration Information

VI.1a. Award Notices:

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.1b. The following additional requirements apply to this project:

A critical component of the Administration's Iran policy is the support for indigenous Iranian voices. President Bush himself has pledged this support and the State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact the Office's Iran Policy Coordinator, Lea Perez at (202) 453-8181 for additional information.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact program officer Jill Staggs, (202) 203-7500, e-mail: staggsjj@state.gov for additional information.

VI.2. Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://exchanges.state.gov/education/grantsdiv/terms.htm#articleI.

VI.3. Reporting Requirements:

You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements;

(3) Quarterly program and financial reports showing activities carried out, expenses incurred the calendar quarter and any changes to the project time line.

Grantees will be required to provide reports analyzing their evaluation findings to the Bureau in their regular program reports. (Please refer to IV. Application and Submission Instructions (IV.3.d.3)) above for Program Monitoring and Evaluation information.

All data collected, including survey responses and contact information, must be maintained for a minimum of three years and provided to the Bureau upon request.

All reports must be sent to the ECA Grants Officer and ECA Program Officer listed in the final assistance award document.

Program Data Requirements:

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For general questions about this announcement, contact: Program Officer Evangeline Montgomery, Cultural Programs Division, ECA/PE/C/CU, Room 568, U.S. Department of State, SA-44, 301 4th Street, SW., Washington, DC 20547, (202) 203-7520, e-mail: montgomeryEJ@state.gov, copy to bensonMN@state.gov.

All correspondence with the Bureau concerning this RFGP should reference the Arts Exchanges on International Issues Program and ECA/PE/C/CU-08-43.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 3, 2008.
C. Miller Crouch,
Principal Deputy Assistant Secretary, Bureau of Educational and Cultural Affairs, Department of State.

[FR Doc. E8-7624 Filed 4-9-08; 8:45 am]

BILLING CODE 4710-05-P